COMMISSION ON CIVIL RIGHTS

Sunshine Act Meeting.

AGENCY: United States Commission on Civil Rights.

ACTION: Notice of meeting.

Date and Time: Friday, August 24, 2007; 9:30 a.m.

Place: U.S. Commission on Civil Rights, 624 Ninth Street, NW., Rm. 540, Washington, DC 20425.

Meeting Agenda:

I. Approval of Agenda.

II. Approval of Minutes of August 16, Meeting.

III. Announcements.

IV. Staff Director's Report.

V. Management and Operations

• Information Quality Guidelines.

VI. Program Planning

• Briefing Report on Racial Categorization in the Census.

• Briefing Report on Educational Effectiveness of HBCUs.

• Discovery Plan and Outline for FY 2008 Statutory Report.

• Update: Briefing on Minorities in Foster Care and Adoption.

VII. Future Agenda Items.

VIII. Adjourn.

FOR FURTHER INFORMATION CONTACT: Manuel Alba, Press and Communications (202) 376-8582.

Dated: August 14, 2007.
David Blackwood,
General Counsel.

[FR Doc. 07-4043 Filed 8-14-07; 2:59 pm]

BILLING CODE 6335-02-P